DEPARTMENT OF AGRICULTURE

Forest Service

Del Norte County Resource Advisory Committee

AGENCY: Forest Service, USDA.

ACTION: Notice of meeting.

SUMMARY: The Del Norte County Resource Advisory Committee (RAC) will meet on December 6, 2005 in Crescent City, California. The purpose of the meeting is to discuss the selection of Title II projects under Public Law 106-393, H.R. 2389, the Secure Rural Schools and Community Self-Determination Act of 2000, also called the “Payments to States” Act.

DATES: The meeting will be held on December 6. 2005 from 6 to 8:30 p.m.

ADDRESSES: The meeting will be held at the Del Norte County Unified School District Board Room, 301 West Washington, Crescent City, California.

FOR FURTHER INFORMATION CONTACT: Laura Chapman, Committee Corrindator, USDA, Six River National Forest, 1330 Bayshore Way, Eureka, CA 95501. Phone: (701) 441-3549. e-mail: lchapman@fs.fed.us.

SUPPLEMENTARY INFORMATION: Topics to be discussed included the Coast to Crest and Caves Trail project and a status report of project funded in 2005. The meeting is open to the public. Public input opportunity will be provided and individuals will have the opportunity to address the committee at that time.

Dated: November 15, 2005.
Jeff Walter,
Forest Supervisor.

[FR Doc. 05-23053 Filed 11-21-05; 8:45 am]

BILLING CODE 3410-11-M